DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the table below and revise the Flood Insurance Rate Maps ((FIRMs) in effect for the listed communities prior to this date.

ADDRESSES: The modified BFEs for each community are available for inspection at the office of the Chief Executive Officer of each community. The respective addresses are listed in the table below.

FOR FURTHER INFORMATION CONTACT: Doug Bellomo, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community number
Arkansas: Sebastian, (Case No. 02-06-1094P), (FEMA Docket No. P7620) | City of Greenwood | November 13, 2002, November 20, 2002, Greenwood Democrat | The Honorable Judy Selkirk, Mayor, City of Greenwood, City Hall, 30 Bell Road, Greenwood, AR 72936 | November 25, 2002 | 050198
Arkansas: Crawford, (Case No. 02-06-873P), (FEMA Docket No. P7620) | City of Van Buren | November 13, 2002, November 20, 2002, Van Buren Press Argus Courier | The Honorable John Riggs, Mayor, City of Van Buren, 1003 Broadway, Van Buren, AR 72956 | February 19, 2003 | 050053
Kansas: Johnson, (Case No. 02-07-1010P), (FEMA Docket No. P7618) | City of Lenexa | October 22, 2002, October 29, 2002, The Legal Record | The Hon. Michael A. Boehm, Mayor, City of Lenexa, P.O. Box 14888, Lenexa, KS 66215 | September 19, 2002 | 200168
Kansas: Johnson, (Case No. 01-07-457P), (FEMA Docket No. P7620) | City of Overland Park | November 13, 2002, November 20, 2002, The Sun Newspapers | The Honorable Ed Eilert, Mayor, City of Overland Park, City Hall, 8500 Santa Fe Drive, Overland Park, KS 66212 | February 19, 2003 | 200174
Kansas: Johnson, (Case No. 02-07-1010P), (FEMA Docket No. P7618) | City of Shawnee | October 24, 2002, October 31, 2002, The Journal Herald | The Honorable Jim Allen, Mayor, City of Shawnee, 11110 Johnson Drive, Shawnee, KS 66203 | September 19, 2002 | 200177
Minnesota: Dakota, (Case No. 02-05-1843P), (FEMA Docket No. P7618) | City of Burnsville | October 24, 2002, October 31, 2002, Dakota County Tribune | The Hon. Elizabeth Kautz, Mayor, City of Burnsville, 100 Civic Center Parkway, Burnsville, MN 55337 | September 30, 2002 | 270102
Minnesota: Washington, (Case No. 02-05-0419P), (FEMA Docket No. P7620) | City of Hugo | November 6, 2002, November 13, 2002, The White Bear Press | The Honorable Fran Miron, Mayor, City of Hugo, 14669 Fitzgerald Avenue North, Hugo, MN 55038 | November 15, 2002 | 270504
Nebraska: Lancaster, (Case No. 02-07-1012P), (FEMA Docket No. P7620) | City of Lincoln | November 18, 2002, November 25, 2002, Lincoln Journal Star | The Honorable Don Wesley, Mayor, City of Lincoln, 555 South 10th Street, Room 208, Lincoln, NE 68508 | October 25, 2002 | 315273
Ohio: Franklin, (Case No. 02-05-3971P), (FEMA Docket No. P7620) | Unincorporated Areas | October 31, 2002, November 7, 2002, The Columbus Dispatch | The Hon. Arlene Shoemaker, President, Franklin County, Board of Commissioners, 373 South High Street, 26th Floor, Columbus, OH 43215-6304 | October 15, 2002 | 390167
Texas: Denton, (Case No. 02-06-1264P), (FEMA Docket No. P7620) | Town of Copper Canyon | November 18, 2002, November 25, 2002, Denton Record Chronicle | The Hon. Chuck Wainscott, Mayor, Town of Copper Canyon, 400 Woodland Drive, Copper Canyon, TX 75067-8501 | October 25, 2002 | 481508
Texas: Denton, (Case No. 02-06-419P), (FEMA Docket No. P7620) | City of Denton | November 19, 2002, November 26, 2002, Denton Record Chronicle | The Honorable Euline Brock, Mayor, City of Denton, 215 East McKinney Street, Denton, TX 76201 | February 25, 2003 | 48094
Texas: Denton, (Case No. 02-06-419P), (FEMA Docket No. P7620) | Unincorporated Areas | November 19, 2002, November 26, 2002, Denton Record Chronicle | The Honorable Mary Horn, Judge, Denton County, Courthouse-on-the-Square, 110 West Hickory Street, Denton, TX 76201 | February 25, 2003 | 480774
Texas: Tarrant, (Case No. 02-06-263P), (FEMA Docket No. P7620) | City of Forth Worth | December 2, 2002, December 9, 2002, Fort Worth Star Telegram | The Honorable Kenneth Barr, Mayor, City of Forth Worth, 1000 Throckmorton Street, Forth Worth, TX 76102 | March 10, 2003 | 480596
Texas: Harris, (Case No. 02-06-1092P), (FEMA Docket No. P7620) | Unincorporated Areas | November 19, 2002, November 26, 2002, Houston Chronicle | The Honorable Robert Eckels, Judge, Harris County, 1001 Preston Street, Houston, TX 77002 | October 29, 2002 | 480287
Texas: Harris, (Case No. 02-06-1537P), (FEMA Docket No. P7620) | City of Houston | December 12, 2002, December 19, 2002, Houston Chronicle | The Honorable Lee P. Brown, Mayor, City of Houston, P.O. Box 1562, Houston, TX 77251-1562 | March 20, 2003 | 480296
Texas: Tarrant, (Case No. 01-06-1464P), (FEMA Docket No. P7620) | City of North Richland Hills | December 10, 2002, December 17, 2002, The Star Telegram | The Hon. T. Oscar Trevino, Jr., Mayor, City of North Richland Hills, 7301 N.E. Loop 820, North Richland Hills, TX 76180 | March 18, 2003 | 480607
Texas: Collin, (Case No. 02-06-536P), (FEMA Docket No. P7620) | City of Plano | November 13, 2002, November 20, 2002, Plano Star Courier | The Honorable Pat Evans, Mayor, City of Plano, P.O. Box 860358, Plano, TX 75086-0358 | February 19, 2003 | 480140
Texas: Collin, (Case No. 02-06-992P), (FEMA Docket No. P7620) | City of Plano | December 4, 2002, December 11, 2002, Plano Star Courier | The Honorable Pat Evans, Mayor, City of Plano, 1520 Avenue K, P.O. Box 860358, Plano, TX 75086 | March 12, 2003 | 480140
Texas: Bexar, (Case No. 02-06-1072P), (FEMA Docket No. P7620) | City of San Antonio | November 13, 2002, November 20, 2002, San Antonio Express News | The Honorable Ed Garza, Mayor, City of San Antonio, P.O. Box 839966, San Antonio, TX 78283 | February 19, 2003 | 480045
Texas: Bexar, (Case No. 02-06-1707P), (FEMA Docket No. P7620) | City of San Antonio | December 4, 2002, December 11, 2002, San Antonio Express News | The Honorable Ed Garza, Mayor, City of San Antonio, P.O. Box 839966, San Antonio, TX 78283 | March 12, 2003 | 480045
Texas: Tarrant, (Case No. 02-06-263P), (FEMA Docket No. P7620) | Unincorporated Areas | December 2, 2002, December 9, 2002, Forth Worth Star Telegram | The Hon. Tom Vandergriff, Tarrant County Judge, 100 E. Weatherford, Fort Worth, TX 76196 | March 10, 2003 | 480582
Texas: Bell, (Case No. 02-06-590P), (FEMA Docket No. P7620) | City of Temple | December 11, 2002, December 18, 2002, Temple Daily Telegram | The Honorable Bill Jones, III, Mayor, City of Temple, 2 North Main Street, Temple, TX 76501 | March 19, 2003 | 480034
Texas: Tarran, (Case No. 02-06-263P), (FEMA Docket No. P7620) | City of Watauga | December 2, 2002, December 9, 2002, Forth Worth Star Telegram | The Honorable Harry Jeffries, Mayor, City of Watauga, 7101 Whitley Road, Watauga, TX 76148 | March 10, 2003 | 480613

(Catalog of Federal Domestic Assistance No. 83.100, “Flood Insurance.”)
Dated: September 10, 2003.
Anthony S. Lowe,
Mitigation Division Director, Emergency Preparedness and Response Directorate.

[FR Doc. 03-23988 Filed 9-18-03; 8:45 am]

BILLING CODE 6718-04-P